DEPARTMENT OF THE INTERIOR

Minerals Management Service

Agency Information Collection Activities: Proposed Collection, Comment Request

AGENCY: Minerals Management Service (MMS), Interior.

ACTION: Notice of an extension of a currently approved information collection (OMB Control Number 1010-0090).

SUMMARY: To comply with the Paperwork Reduction Act (PRA) of 1995, we are inviting comments on a collection of information that we will submit to the Office of Management and Budget (OMB) for review and approval. The information collection request (ICR) is titled “30 CFR 216.57—Stripper Royalty Rate Reduction Notification (Form MMS-4377, Stripper Royalty Rate Reduction Notification).”

DATES: Submit written comments on or before April 5, 2004.

ADDRESSES: Submit written comments to Sharron L. Gebhardt, Lead Regulatory Specialist, Minerals Management Service, Minerals Revenue Management, P.O. Box 26165, MS 320B2, Denver, Colorado 80225. If you use an overnight courier service, our courier address is Building 85, Room A-614, Denver Federal Center, Denver, Colorado 80225. You may also email your comments to us at mrm.comments@mms.gov. Include the title of the information collection and the OMB control number in the “Attention” line of your comment. Also include your name and return address. Submit electronic comments as an ASCII file avoiding the use of special characters and any form of encryption. If you do not receive a confirmation we have received your email, contact Ms. Gebhardt at (303) 231-3211.

FOR FURTHER INFORMATION CONTACT: Sharron L. Gebhardt, telephone (303) 231-3211, Fax (303) 231-3781 or email sharron.gebhardt@mms.gov.

SUPPLEMENTARY INFORMATION: Title: 30 CFR 216.57—Stripper Royalty Rate Reduction Notification (Form MMS-4377, Stripper Royalty Rate Reduction Notification).

OMB Control Number: 1010-0090.

Bureau Form Number: Form MMS-4377.

Abstract: The Secretary of the U.S. Department of the Interior (DOI) is responsible for collecting royalties from lessees who produce minerals from leased Federal and Indian lands. The Secretary is required by various laws to manage mineral resources production on Federal and Indian lands, collect the royalties due, and distribute the funds in accordance with those laws. MMS performs the royalty management functions for the Secretary.

The Bureau of Land Management, the surface management agency for Federal onshore leases, grants royalty rate reductions to operators of stripper oil properties producing an average of less than 15 barrels of oil per eligible well per well-day. See 43 CFR 3103.4-2. The purpose of these royalty rate reductions is to encourage continued production, provide an incentive for enhanced oil recovery projects, discourage abandonment of properties producing less than an average or less than 15 barrels of oil per eligible well per well-day, and reduce the operator's expenses. The royalty rate for a stripper oil property is lower than the royalty rate reflected in the lease and thus reduces the amount of revenues paid to the Federal Government. In order to perform the royalty management functions for DOI, MMS must receive a timely notification of any royalty rate changes. Reporters use the Form MMS-4377 to notify MMS of royalty rate changes.

No proprietary information will be submitted to MMS under this collection. No items of a sensitive nature are collected. The decision to request a royalty rate reduction is voluntary; however, failure to timely submit the notification will result in the rate being denied.

We have also changed the title of this ICR from “Stripper Royalty Rate Reduction Notification (Form MMS-4377)” to “30 CFR 216.57—Stripper Royalty Rate Reduction Notification (Form MMS-4377, Stripper Royalty Rate Reduction Notification)” to clarify the regulatory language we are covering under 30 CFR 216.57.

Frequency of Response: Annually.

Estimated Number and Description of Respondents: 900 operators of stripper oil properties producing an average of less than 15 barrels of oil per eligible well per well-day.

Estimated Annual Reporting and Recordkeeping “Hour” Burden: 1,080 hours. The following chart shows the breakdown of the estimated burden hours by CFR section and paragraph:

Respondent Annual Burden Hour Chart
CFR Section | Reporting requirement | Burden hours per response | Annual number of responses | Annual burden hours
30 CFR 216.57 | Stripper royalty rate reduction notification. In accordance with its regulations at 43 CFR 3103.4-1, title “Waiver, suspension, or reduction of rental, royalty, or minimum royalty,” the Bureau of Land Management (BLM) may grant reduced royalty rates to operators of low producing oil leases to encourage continued production. Operators who have been granted a reduced royalty rate(s) by BLM must submit a Stripper Royalty Rate Reduction Notification (Form MMS-4377) to MMS for each 12-month qualifying period that a reduced royalty rate(s) is granted [58 FR 64903, Dec 10, 1993]. Please note the BLM citation and title changed to 43 CFR 3103.4-2 Stripper well royalty reductions. | 1.2 | 900 | 1,080
Total |  | 1.2 | 900 | 1,080

Estimated Annual Reporting and Recordkeeping “Non-hour Cost” Burden: We have identified no “non-hour” cost burdens.

Comments: The PRA (44 U.S.C. 3501, et seq.) provides an agency may not conduct or sponsor, and a person is not required to respond to, a collection of information unless it displays a currently valid OMB control number. Before submitting an ICR to OMB, PRA Section 3506(c)(2)(A) requires each agency “* * * to provide notice * * * and otherwise consult with members of the public and affect agencies concerning each proposed collection of information * * *.” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

The PRA also requires agencies to estimate the total annual reporting “non-hour cost” burden to respondents or recordkeepers resulting from the collection of information. We have not identified non-hour cost burdens for this information collection. If you have costs to generate, maintain, and disclose this information, you should comment and provide your total capital and startup cost components or annual operation, maintenance, and purchase of service components. You should describe the methods you use to estimate major costs factors, including system and technology acquisition, expected useful life of capital equipment, discount rate(s), and the period over which you incur costs. Capital and startup costs include, among other items, computers and software you purchase to prepare for collecting information; monitoring, sampling, and testing equipment; and record storage facilities. Generally, your estimates should not include equipment or services purchased: (i) Before October 1, 1995; (ii) to comply with requirements not associated with the information collection; (iii) for reasons other than to provide information or keep records for the Government; of (iv) as part of customary and usual business or private practices.

We will summarize written responses to this notice and address them in our ICR submission for OMB approval, including appropriate adjustments to the estimated burden. We will provide a copy of the ICR to you without charge upon request, and the ICR will also be posted on our Web site at http://www.mrm.mms.gov/Laws_R_D/FRNotices/FRInfColl.htm.

Public Comment Policy: We will post all comments in response to this notice on our Web site at http://www.mrm.mms.gov/Laws_R_D/FRNotices/FRInfColl.htm. We will also makes copies of the comments available for public review, including names and addresses of respondents, during regular business hours at our offices in Lakewood, Colorado. Individual respondents may request we withhold their home address from the public record, which we will honor to the extent allowable by law. There also may be circumstances in which we would withhold from the rulemaking record a respondent's identity, as allowable by law. If you request that we withhold your name and/or address, state this prominently at the beginning of your comment. However, we will not consider anonymous comments. We will make all submissions from organizations or businesses, and from individuals identifying themselves as representatives or officials of organizations or businesses, available for public inspection in their entirety.

MMS Federal Register Liaison Officer: Denise Johnson (202) 208-3976.

Dated: January 22, 2004.
Lucy Querques Denett,
Associate Director for Minerals Revenue Management.

[FR Doc. 04-2087 Filed 2-2-04; 8:45 am]

BILLING CODE 4310-MR-M